TENNESSEE VALLEY AUTHORITY

Sunshine Act Meetings

TIME AND DATE: 10 a.m. on November 13, 2020.

PLACE: Please use the following link for the live stream of meeting: https://bcove.video/2ThhkTb.

STATUS: Open, via live streaming only.

MATTERS TO BE CONSIDERED:

Meeting No. 20-04

The TVA Board of Directors will hold a public meeting on November 13, 2020. Due to the ongoing risks associated with the COVID-19 outbreak, the meeting will be conducted via teleconference. The meeting will be called to order at 10 a.m. ET to consider the agenda items listed below. TVA Board Chair John Ryder and TVA management will answer questions from the news media following the Board meeting.

Public health concerns also require a change to the Board's public listening session. Although in-person comments from the public are not feasible, the Board is encouraging those wishing to express their opinions to submit written comments that will be provided to the Board members before the November 13 meeting. Written comments can be submitted through the same online system used to register to speak at previous listening sessions.

Agenda

1. Approval of minutes of the August 27, 2020, Board Meeting

2. Report from President and CEO

3. Report of the Finance, Rates, and Portfolio Committee

A. FY 2021 Financial Plan and Budget

B. Electric Vehicle Charging—Policy and Pricing

4. Report of the People and Performance Committee

A. Fiscal Year 2020 Performance and Compensation

B. Fiscal Year 2021 Corporate Goals

5. Report of the Audit, Risk, and Regulation Committee

A. Extension of Pandemic Relief Delegation

6. Report of the Nuclear Oversight Committee

7. Report of the External Relations Committee

8. Information Items

A. Executive Order 13950

B. Strategic Assessment Review

C. Policy on Requests to Use the TVA Transmission System

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: November 6, 2020.
Sherry A. Quirk,
General Counsel.

[FR Doc. 2020-25153 Filed 11-9-20; 4:15 pm]

BILLING CODE 8120-08-P